NATIONAL SCIENCE FOUNDATION

Special Emphasis Panel on Research, Evaluation and Communication; Notice of Meeting

In accordance with the Federal Advisory Committee Act (Pub. L. 92-463, as amended), the National Science Foundation announces the following meeting.

Name: Special Emphasis Panel on Research, Evaluation and Communication (1210).

Date and Time:

January 25, 2001 (8 a.m.-7 p.m.) Room 310 and 365

January 26, 2001 (8 a.m.-7 p.m.) Room 310 and 365

January 29, 2001 (7:30 a.m.-6 p.m.) Room 310, 340, and 360

January 30, 2001 (7:30 a.m.-6 p.m.) Room 310, 340, and 360

Place: National Science Foundation, 4201 Wilson Boulevard, Arlington, VA.

Type of Meeting: Closed.

Contact Person: Kenneth Whang, Program Director; Research on Learning and Education (ROLE) Program, Division of Research, Evaluation and Communication (REC), Room 855, National Science Foundation, 4201 Wilson Boulevard, Arlington, VA 22230, Telephone: 703/292-8650.

Purpose of Meeting: To provide advice and recommendations concerning proposals submitted to NSF for financial support.

Agenda: To review and evaluate formal proposals submitted to the ROLE Program as a part of the selection process for awards.

Reason for Closing: The proposals being reviewed include information of a propriety or confidential nature, including technical information, financial data, such as salaries, and personal information concerning individuals associated with the proposals. These matters are exempt under 5 U.S.C. 522b(c), (4) and (6) of the Government in the Sunshine Act.

Dated: October 10, 2000.
Karen J. York,
Committee Management Officer.

[FR Doc. 00-26319 Filed 10-12-00; 8:45 am]

BILLING CODE 7555-01-M